FEDERAL LABOR RELATIONS AUTHORITY

5 CFR Parts 2471 and 2472

Procedures of the Panel; Miscellaneous Requirements

AGENCY: Federal Service Impasses Panel, Federal Labor Relations Authority.

ACTION: Final rule.

SUMMARY: This final rule adopts a proposed rule published in the Federal Register on February 16, 2024, without change. The final rule updates regulations of the Federal Labor Relations Authority's (FLRA) Federal Service Impasses Panel (FSIP) to establish revised methods by which the public may obtain specific forms from the FSIP, and then file, or formally submit, those forms and other documents during the course of FSIP proceedings.

DATES: This final rule is effective on April 25, 2024.

FOR FURTHER INFORMATION CONTACT: Kimberly Moseley, Executive Director, Federal Service Impasses Panel, at kmoseley@flra.gov or at: 771-444-5765.

SUPPLEMENTARY INFORMATION: On February 16, 2024, in 89 FR 12287, the FLRA, including the FSIP, noted that it was consolidating its office space at 1400 K Street NW, Washington, DC, so that all of the offices that had been on the second floor of that address would be relocated on the third floor, joining the other FLRA offices already located there. Additionally, FSIP noted that, as it continued to move towards fully electronic case files, it wished to strongly encourage parties to file any permissible documents through the eFiling system, and to implement a requirement that allows in-person filing of forms or documents in FSIP matters by permission only, at an appointed time. FSIP also noted that, to the extent that moving to an “appointment-only” in-person filing system had any effect at all on parties' filing practices, it would promote eFiling. Further, the change would assist FSIP—which at the time had a staff of only four employees—in more easily managing staff-coverage issues, especially if budget constraints or other considerations prevented FSIP from filling vacancies as they arose.

Given these considerations, the FSIP proposed to amend 5 CFR parts 2471.2, 2471.5, 2472.3, 2472.5, and 2472.6 to update procedures for obtaining FSIP-specific forms and then filing or formally submitting those forms and other documents during the course of proceedings before the FSIP. The proposed amendments would promote eFiling, and conserve FSIP staff's time and efficiency by allowing staff members to accept documents after giving advance permission, and at specific appointed times. This arrangement would allow staff members to avoid remaining on constant stand-by for lengthy periods of time each week to accept forms and documents, thus losing the opportunity to perform other critical tasks.

The FLRA and FSIP invited written comments on the proposed rule, stating that any such comments must be received by March 18, 2024. The FLRA and FSIP received no comments, and thus adopt the rule as originally proposed.

Regulatory Flexibility Act Certification

Pursuant to section 605(b) of the Regulatory Flexibility Act, 5 U.S.C. 605(b), the Chairman of the FSIP has determined that the final rule will not have a significant impact on a substantial number of small entities, because this final rule applies only to Federal agencies, Federal employees, and labor organizations representing those employees.

Executive Order 12866, Regulatory Review

The FLRA is an independent regulatory agency and thus not subject to the requirements of E.O. 12866 (58 FR 51735, Sept. 30, 1993).

Executive Order 13132, Federalism

The FLRA is an independent regulatory agency and thus not subject to the requirements of E.O. 13132 (64 FR 43255, Aug. 4, 1999).

Unfunded Mandates Reform Act of 1995

This final rule will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This action is not a major rule as defined by section 804 of the Small Business Regulatory Enforcement Fairness Act of 1996. This final rule will not result in an annual effect on the economy of $100,000,000 or more; a major increase in costs or prices; or significant adverse effects on competition, employment, investment, productivity, innovation, or on the ability of United States-based companies to compete with foreign-based companies in domestic and export markets.

Paperwork Reduction Act of 1995

The final rule contains no additional information collection or recordkeeping requirements under the Paperwork Reduction Act of 1995, 44 U.S.C. 3501, et seq.

List of Subjects in 5 CFR Parts 2471 and 2472

Administrative practice and procedure, Government employees, Labor management relations.

For the reasons stated in the preamble, the FLRA amends 5 CFR parts 2471 and 2472 as follows:

PART 2471—PROCEDURES OF THE PANEL

1. The authority citation for part 2471 continues to read as follows:

Authority: 5 U.S.C. 7119, 7134.

2. Revise § 2471.2 to read as follows:

§ 2471.2 Request form.

A form is available for parties to use in filing either a request for consideration of an impasse or an approval of a binding arbitration procedure. Copies are available on the FLRA's website at www.flra.gov or, with advance permission only, from the Office of the Executive Director, Federal Service Impasses Panel, Suite 300, 1400 K Street NW, Washington, DC 20424-0001. Telephone (771) 444-5762. Use of the form is not required, provided that the request includes all of the information set forth in § 2471.3.

3. Amend § 2471.5 by revising paragraphs (a)(1), (b)(1), and (d) to read as follows:

§ 2471.5 Filing and Service.

(a) * * *

(1) Any party submitting a request for Panel consideration of an impasse or a request for approval of a binding arbitration procedure shall file an original and one copy with the Panel, unless the request is filed electronically as discussed below. A clean copy may be submitted for the original. Requests may be submitted electronically through use of the eFiling system on the FLRA's website at www.flra.gov, or by registered mail, certified mail, regular mail, or commercial delivery. Requests also may be accepted by the Panel if transmitted to the facsimile machine of its office, the number of which is (202) 482-6674. A party submitting a request by facsimile shall also file an original for the Panel's records, but failure to do so shall not affect the validity of the filing by facsimile, if otherwise proper. While requests may also be submitted by in-person delivery to the FSIP, you must first obtain permission, by calling (771) 444-5762, and then schedule an appointment at least one business day in advance of submission. In-person delivery is accepted with permission, and by appointment only, Monday through Friday (except Federal holidays).

* * * * *

(b) * * *

(1) Any party submitting a response to, or other document in connection with, a request for Panel consideration of an impasse or a request for approval of a binding arbitration procedure shall file an original and one copy with the Panel, with the exception of responses or documents filed simultaneously with the electronic filing of a request through use of the FLRA's eFiling system. Responses or documents may be submitted electronically through use of the eFiling system on the FLRA's website at www.flra.gov, or by registered mail, certified mail, regular mail, or commercial delivery. Responses or documents also may be accepted by the Panel if transmitted to the facsimile machine of its office, the number of which is (202) 482-6674. A party submitting a response or document by facsimile shall also file an original for the Panel's records, but failure to do so shall not affect the validity of the filing by facsimile, if otherwise proper. While responses or documents may also be submitted by in-person delivery to the FSIP, you must first obtain permission, by calling (771) 444-5762, and then schedule an appointment at least one business day in advance of submission. In-person delivery is accepted with permission, and by appointment only, Monday through Friday (except Federal holidays).

* * * * *

(d) The date of service or date served shall be the day when the matter served, if properly addressed, is deposited in the U.S. mail, deposited with a commercial-delivery service that will provide a record showing the date the document was tendered to the delivery service, or delivered in person after permission to do so is granted. Where service is made by electronic or facsimile transmission, the date of service shall be the date of transmission.

* * * * *

PART 2472—IMPASSES ARISING PURSUANT TO AGENCY DETERMINATIONS NOT TO ESTABLISH OR TO TERMINATE FLEXIBLE OR COMPRESSED WORK SCHEDULES

4. The authority citation for part 2472 continues to read as follows:

Authority: 5 U.S.C. 6131.

5. Revise § 2472.3 to read as follows:

§ 2472.3 Request for Panel Consideration.

Either party, or the parties jointly, may request the Panel to resolve an impasse resulting from an agency determination not to establish or to terminate a flexible or compressed work schedule by filing a request as hereinafter provided. A form is available for use by the parties in filing a request with the Panel. Copies are available on the FLRA's website at www.flra.gov or, with advance permission only, from the Office of the Executive Director, Federal Service Impasses Panel, Suite 300, 1400 K Street NW, Washington, DC 20424-0001. Telephone (771) 444-5762. Fax (202) 482-6674. Use of the form is not required provided that the request includes all of the information set forth in § 2472.4.

6. Revise § 2472.5 to read as follows:

§ 2472.5 Where to file.

Requests to the Panel provided for in this part must either be filed electronically through use of the FLRA's eFiling system on the FLRA's website at www.flra.gov, or be addressed to the Executive Director, Federal Service Impasses Panel, Suite 300, 1400 K Street NW, Washington, DC 20424-0001. All inquiries or correspondence on the status of impasses or other related matters must be submitted by regular mail to the street address above, by using the telephone number (771) 444-5762, or by using the facsimile number (202) 482-6674.

7. Amend § 2472.6 by revising paragraphs (a)(1), (b)(1), and (d) to read as follows:

§ 2472.6 Filing and service.

(a) * * *

(1) Any party submitting a request for Panel consideration of an impasse filed pursuant to § 2472.3 of these rules shall file an original and one copy with the Panel unless the request is filed electronically as discussed below. A clean copy may be submitted for the original. Requests may be submitted electronically through use of the eFiling system on the FLRA's website at www.flra.gov, or by registered mail, certified mail, regular mail, or commercial delivery. Requests also may be accepted by the Panel if transmitted to the facsimile machine of its office, the number of which is (202) 482-6674. A party submitting a request by facsimile shall also file an original for the Panel's records, but failure to do so shall not affect the validity of the filing by facsimile, if otherwise proper. While requests may also be submitted by in-person delivery to the FSIP, you must first obtain permission, by calling (771) 444-5762, and then schedule an appointment at least one business day in advance of submission. In-person delivery is accepted with permission, and by appointment only, Monday through Friday (except Federal holidays).

* * * * *

(b) * * *

(1) Any party submitting a response to, or other document in connection with, a request for Panel consideration of an impasse filed pursuant to § 2472.3 shall file an original and one copy with the Panel, with the exception of responses or documents that are filed simultaneously with the electronic filing of a request for Panel consideration. A clean copy may be submitted for the original. Responses or documents may be submitted electronically through use of the eFiling system on the FLRA's website at www.flra.gov, or by registered mail, certified mail, regular mail, or commercial delivery. Responses or documents also may be accepted by the Panel if transmitted to the facsimile machine of its office, the number of which is (202) 482-6674. A party submitting a response or document by facsimile shall also file an original for the Panel's records, but failure to do so shall not affect the validity of the filing by facsimile, if otherwise proper. While responses or documents may also be submitted by in-person delivery to the FSIP, you must first obtain permission, by calling (771) 444-5762, and then schedule an appointment at least one business day in advance of submission. In-person delivery is accepted with permission, and by appointment only, Monday through Friday (except Federal holidays).

* * * * *

(d) The date of service or date served shall be the day when the matter served, if properly addressed, is deposited in the U.S. mail, deposited with a commercial-delivery service that will provide a record showing the date the document was tendered to the delivery service, or delivered in person after permission to do so is granted. Where service is made by electronic or facsimile transmission, the date of service shall be the date of transmission.

* * * * *

Approved: March 20, 2024.
Thomas Tso,
Solicitor, Federal Register Liaison.

[FR Doc. 2024-06370 Filed 3-25-24; 8:45 am]

BILLING CODE 7627-01-P